DEPARTMENT OF LABOR

Employment and Training Administration

[TA-W-65,858]

Schnadig Corporation, Des Plaines, IL; Notice of Termination of Investigation

In accordance with Section 221 of the Trade Act of 1974, as amended, an investigation was initiated on April 28, 2009 in response to a worker petition filed on behalf of workers of Schnadig Corporation, Des Plaines, Illinois.

The petitioner has requested that the petition be withdrawn. Consequently, the investigation has been terminated.

Signed in Washington, DC, this 7th day of May 2009.
Richard Church,
Certifying Officer, Division of Trade Adjustment Assistance.

[FR Doc. E9-13912 Filed 6-12-09; 8:45 am]

BILLING CODE 4510-FN-P